DEPARTMENT OF TRANSPORTATION

Federal Railroad Administration

[Docket No. FRA-2000-7257]

Railroad Safety Advisory Committee

AGENCY: Federal Railroad Administration (FRA), U.S. Department of Transportation (DOT).

ACTION: Notice; Solicitation of nominations for membership.

SUMMARY: The Department solicits nominations for membership to serve on the Railroad Safety Advisory Committee (RSAC) to provide information, advice, and recommendations to the Secretary of Transportation and FRA Administrator on matters relating to railroad safety.

DATES: All nominations for RSAC members must be received on or before March 26, 2026.

ADDRESSES: All nomination materials should refer to the docket number above and be submitted by one of the following methods:

• Federal Rulemaking Portal: https://www.regulations.gov. Follow the online instructions for submitting comments.

• Mail: Docket Management Facility, U.S. Department of Transportation, 1200 New Jersey Avenue SE, Suite W58-213, Washington, DC 20590.

• Hand Delivery: 1200 New Jersey Avenue SE, Suite W58-213, Washington, DC, between 9 a.m. and 5 p.m. ET, Monday through Friday, except Federal holidays.

FOR FURTHER INFORMATION CONTACT: Monique Ferguson Stewart, Office of Railroad Safety, FRA_RSAC_Info@dot.gov, 202-493-6358.

SUPPLEMENTARY INFORMATION: The RSAC was established by the Secretary of Transportation in March 1996 and is operated in accordance with the Federal Advisory Committee Act, 5 U.S.C. ch. 10. The purpose of the RSAC is to address tasks from the FRA Administrator by providing advice for collaborative rulemaking or by providing nonregulatory recommendations on critical safety issues.

In particular, the RSAC makes recommendations to the FRA Administrator regarding rail safety. The Committee will be continuing, but subject to renewal every two years. The Committee is expected to meet three to four times a year. Unless otherwise required by law or approved by the Secretary, all meetings will be held virtually.

In this notice, the Department is soliciting nominations for membership to the Committee. The Committee shall report to the Secretary of Transportation through the FRA Administrator and shall comprise 25 members representing the agency's major stakeholder groups, including railroads, labor organizations, suppliers, and manufacturers, as well as other interested parties.

Members are appointed by the Secretary of Transportation to serve two-year terms but may be reappointed. Past members of the advisory committee are welcome to apply. The Department is interested in ensuring membership is balanced fairly in terms of the perspectives represented and the functions to be performed.

Process and Deadline for Submitting Nominations: Qualified individuals can self-nominate or be nominated by any individual or organization. To be considered for the RSAC, nominators should submit the following information:

(1) Name, title, and relevant contact information (including phone number(s) and email address) of the individual requesting consideration;

(2) A letter of support from a company, union, trade association, academic, or nonprofit organization on letterhead containing a brief description on why the nominee should be considered for membership;

(3) A short biography of the nominee, including professional and academic credentials;

(4) An affirmative statement explaining why the nominee's organization should be considered for RSAC membership.

Please do not send company, trade association, organization brochures, or any other information not requested by this Notice. Materials submitted should total two pages or less. Should more information be needed, DOT staff will contact the nominee, obtain information from the nominee's past affiliations, or obtain information from publicly available sources, such as the internet.

Nominations must be received on or before 30 days after publication in the Federal Register. Nominees selected for appointment to the RSAC will be notified by return email and by a letter of appointment.

Issued in Washington, DC,
David A. Fink,
Administrator.

[FR Doc. 2026-03634 Filed 2-23-26; 8:45 am]

BILLING CODE 4910-06-P